DEPARTMENT OF HEALTH AND HUMAN SERVICES

Centers for Disease Control and Prevention

[60Day-24-24BG; Docket No. CDC-2023-0095]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled National Center for Chronic Disease Prevention and Health Promotion: Work Plans, Progress Monitoring, and Evaluation Reporting (NCCDPHP WPPMER). The NCCDPHP WWPMER ICR is intended to be a Generic collection mechanism for cooperative agreement awardee work plans, evaluation plans, progress reports and evaluation reports, and will enable the accurate, reliable, uniform and timely submission to NCCDPHP of each awardee's work plans, progress reports, and evaluation reports, including strategies and activities, evaluation plans, progress and performance measures, and outcomes and success stories.

DATES: CDC must receive written comments on or before January 30, 2024.

ADDRESSES: You may submit comments, identified by Docket No. CDC-2023-0095 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Center for Chronic Disease Prevention and Health Promotion: Work Plans, Progress Monitoring, and Evaluation Reporting (NCCDPHP WPPMER)—New—National Center for Chronic Disease Prevention and Health Promotion (NCCDPHP), Centers for Disease Control and Prevention (CDC).

Background and Brief Description

Each year, more than 80% of the budget for the Centers for Disease Control and Prevention (CDC) and the National Center for Chronic Disease Prevention and Health Promotion (NCCDPHP) is distributed to awardees such as state health departments, universities, and other organizations, primarily through cooperative agreements. The structure of cooperative agreements is such that awardees and CDC project officers, subject matter experts, and technical monitors work together on designing projects intended to improve public health.

Currently there is no single information collection mechanism that encompasses all collection needs for cooperative agreements. NCCDPHP seeks OMB approval to use Generic Information Collection Request (ICR) templates to collect work plan, monitoring, and/or evaluation information from cooperative agreement awardees. The proposed Generic ICR will allow the creation of individualized templates or forms for each phase of each award.

OMB approval is requested for three years. CDC requests OMB approval for an estimated 21,380 annualized burden hours. There is no cost to respondents other than their time to participate.

Estimated Annualized Burden Hours
Type of respondent | Type of form | Number of respondents | Number of responses per respondent | Average burden per response (in hours) | Total burden (in hours)
Comprehensive Cancer Control Program Award Recipients | Evaluation Plan | 66 | 1 | 6 | 396
National Breast and Cervical Cancer Early Detection Program Award Recipients | Work Plan | 64 | 1 | 6 | 384
National Program of Cancer Registries Award Recipients | Evaluation Report | 50 | 1 | 12 | 600
Other CDC/NCCDPHP Award Recipients | Other Reporting Forms | 2,000 | 1 | 10 | 20,000
Total |  |  |  |  | 21,380

Jeffrey M. Zirger,
Lead, Information Collection Review Office, Office of Public Health Ethics and Regulations, Office of Science, Centers for Disease Control and Prevention.

[FR Doc. 2023-26474 Filed 11-30-23; 8:45 am]

BILLING CODE 4163-18-P